NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold twenty-three meetings, by videoconference, of the Humanities Panel, a federal advisory committee, during June and July 2022. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: June 21, 2022

This video meeting will discuss applications on the topics of History and Social Sciences, for the NEH-Mellon Fellowships for Digital Publication program, submitted to the Division of Research Programs.

2. Date: June 23, 2022

This video meeting will discuss applications on the topics of Literature and the Arts, for the NEH-Mellon Fellowships for Digital Publication program, submitted to the Division of Research Programs.

3. Date: July 11, 2022

This video meeting will discuss applications on the topics of History and Culture, for the Infrastructure and Capacity Building Challenge Grants program, submitted to the Office of Challenge Programs.

4. Date: July 12, 2022

This video meeting will discuss applications on the topic of Museums, for the Infrastructure and Capacity Building Challenge Grants program, submitted to the Office of Challenge Programs.

5. Date: July 13, 2022

This video meeting will discuss applications on the topics of History and Culture, for the Infrastructure and Capacity Building Challenge Grants program, submitted to the Office of Challenge Programs.

6. Date: July 18, 2022

This video meeting will discuss applications on the topic of Digital Infrastructure, for the Infrastructure and Capacity Building Challenge Grants program, submitted to the Office of Challenge Programs.

7. Date: July 19, 2022

This video meeting will discuss applications on the topic of Higher Education, for the Infrastructure and Capacity Building Challenge Grants program, submitted to the Office of Challenge Programs.

8. Date: July 20, 2022

This video meeting will discuss applications on the topics of Philosophy and Religion, for the Awards for Faculty program, submitted to Division of Research Programs.

9. Date: July 20, 2022

This video meeting will discuss applications on the topics of American Literature, Language, and Studies, for the Awards for Faculty program, submitted to the Division of Research Programs.

10. Date: July 21, 2022

This video meeting will discuss applications on the topic of Arts, for the Awards for Faculty program, submitted to the Division of Research Programs.

11. Date: July 21, 2022

This video meeting will discuss applications on the topics of Literature and Cultural Studies, for the Awards for Faculty program, submitted to the Division of Research Programs.

12. Date: July 22, 2022

This video meeting will discuss applications on the topics of World History and Studies, for the Awards for Faculty program, submitted to the Division of Research Programs.

13. Date: July 22, 2022

This video meeting will discuss applications on the topics of American History and Studies, for the Awards for Faculty program, submitted to the Division of Research Programs.

14. Date: July 22, 2022

This video meeting will discuss applications on the topic of Museums, for the Infrastructure and Capacity Building Challenge Grants program, submitted to the Office of Challenge Programs.

15. Date: July 25, 2022

This video meeting will discuss applications on the topics of Humanities, Media, and Social Sciences, for the Awards for Faculty program, submitted to the Division of Research Programs.

16. Date: July 25, 2022

This video meeting will discuss applications for the Fellowships for Advanced Social Science Research on Japan program, submitted to the Division of Research Programs.

17. Date: July 26, 2022

This video meeting will discuss applications on the topic of U.S. History, for the Fellowships program, submitted to the Division of Research Programs.

18. Date: July 27, 2022

This video meeting will discuss applications on the topics of Music, Dance, and American Studies, for the Fellowships program, submitted to the Division of Research Programs.

19. Date: July 27, 2022

This video meeting will discuss applications on the topics of Anthropology and Social Sciences, for the Fellowships program, submitted to the Division of Research Programs.

20. Date: July 28, 2022

This video meeting will discuss applications on the topics of Latin American Studies and Latina/o Studies, for the Fellowships program, submitted to the Division of Research Programs.

21. Date: July 28, 2022

This video meeting will discuss applications on the topics of European and Comparative Literature and Studies, for the Fellowships program, submitted to the Division of Research Programs.

22. Date: July 28, 2022

This video meeting will discuss applications on the topics of Collection Care and Preservation Training, for the Preservation and Access Education and Training grant program, submitted to the Division of Preservation and Access.

23. Date: July 29, 2022

This video meeting will discuss applications on the topics of Art History and Film Studies, for the Fellowships grant program, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: June 15, 2022.
Samuel Roth,
Attorney-Advisor, National Endowment for the Humanities.

[FR Doc. 2022-13228 Filed 6-17-22; 8:45 am]

BILLING CODE 7536-01-P